SECURITIES AND EXCHANGE COMMISSION

[File No. 500-1]

Newnan Coweta Bancshares, Inc., Proper Power and Energy Inc., uVuMobile, Inc., WGNB Corp., and YouBlast Global, Inc.; Order of Suspension of Trading

March 11, 2014.

It appears to the Securities and Exchange Commission that there is a lack of current and accurate information concerning the securities of Newnan Coweta Bancshares, Inc. because it has not filed any periodic reports since the period ended September 30, 2008.

It appears to the Securities and Exchange Commission that there is a lack of current and accurate information concerning the securities of Proper Power and Energy Inc. because it has not filed any periodic reports since the period ended September 30, 2011.

It appears to the Securities and Exchange Commission that there is a lack of current and accurate information concerning the securities of uVuMobile, Inc. because it has not filed any periodic reports since the period ended December 31, 2008.

It appears to the Securities and Exchange Commission that there is a lack of current and accurate information concerning the securities of WGNB Corp. because it has not filed any periodic reports since the period ended September 30, 2009.

It appears to the Securities and Exchange Commission that there is a lack of current and accurate information concerning the securities of YouBlast Global, Inc. because it has not filed any periodic reports since the period ended September 30, 2010.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on March 11, 2014, through 11:59 p.m. EDT on March 24, 2014.

By the Commission.
Jill M. Peterson,
Assistant Secretary.

[FR Doc. 2014-05629 Filed 3-11-14; 4:15 pm]

BILLING CODE 8011-01-P